DEPARTMENT OF THE INTERIOR

Bureau of Land Management

[18X 1109AF LLUT930000 L16100000.DS0000.LXSSJ0640000]

Notice of Availability of the Grand Staircase-Escalante National Monument-Grand Staircase, Kaiparowits, and Escalante Canyon Units and Federal Lands Previously Included in the Monument That Are Excluded From the Boundaries Draft Resource Management Plans and Associated Environmental Impact Statement

AGENCY: Bureau of Land Management, Interior.

ACTION: Notice of availability.

SUMMARY: In accordance with the National Environmental Policy Act of 1969, as amended, and the Federal Land Policy and Management Act of 1976, as amended, the Bureau of Land Management (BLM) Grand Staircase-Escalante National Monument (GSENM) and Kanab Field Office (KFO) have prepared Draft Resource Management Plans (RMPs) and a Draft Environmental Impact Statement (EIS) for the GSENM Grand Staircase, Kaiparowits, and Escalante Canyons Units and Federal lands excluded from the Monument by Proclamation 9682 and by this notice are announcing the opening of the public comment period.

DATES: To ensure that comments will be considered, the BLM must receive written comments on the Draft RMPs/Draft EIS within 90 days of the date the Environmental Protection Agency publishes its Notice of Availability of the Draft RMPs/Draft EIS in the Federal Register. The BLM will announce future meetings or hearings and any other public involvement activities at least 15 days in advance through public notices, media releases and/or mailings.

ADDRESSES: You may submit comments on the Draft RMPs/Draft EIS by either of the following methods:

• Website: https://goo.gl/EHvhbc

• Mail: 669 S Hwy. 89A, Kanab, UT 84741, Attn: Matt Betenson

Copies of the Draft RMPs/Draft EIS are available at the following locations:

• Bureau of Land Management, Utah State Office, 440 West 200 South, Suite 500, Salt Lake City, Utah

• Escalante Interagency Visitor Center, 755 West Main, Escalante, Utah

• Kanab Field Office, 669 South Highway 89A, Kanab, Utah

The Draft RMPs/Draft EIS and accompanying background documents are available on the ePlanning website at: https://goo.gl/EHvhbc.

FOR FURTHER INFORMATION CONTACT: Matt Betenson, Associate Monument Manager, telephone (435) 644-1200; address 669 S Hwy. 89A, Kanab, UT 84741; email BLM_UT_CCD_monuments@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: On December 4, 2017, President Donald Trump signed Presidential Proclamation 9682 modifying the boundaries of the GSENM as established by Proclamation 6920 to exclude from designation and reservation approximately 861,974 acres of land. Lands that remain part of the GSENM are included in three units, known as the Grand Staircase, Kaiparowits, and Escalante Canyons Units and are reserved for the care and management of the objects of historic and scientific interest described in Proclamation 6920, as modified by Proclamation 9682. Lands that are excluded from the Monument boundaries are now referred to as the Kanab-Escalante Planning Area (KEPA) and are managed in accordance with the BLM's multiple-use mandate.

The planning area is located in Kane and Garfield Counties, Utah, and encompasses approximately 1.86 million acres of public land. For the GSENM Grand Staircase, Kaiparowits, and Escalante Canyons Units, this planning effort, is needed to identify goals, objectives, and management actions necessary for the conservation, protection, restoration, or enhancement of the resources, objects, and values identified in Proclamation 6920, as modified by Proclamation 9682. For lands excluded from the monument, this planning effort is needed to determine to identify goals, objectives, and management actions necessary to ensure that public lands and their various resource values are utilized in the combination that will best meet the present and future needs of the American people.

The entire planning area is currently managed by the BLM and under the Grand Staircase-Escalante National Monument Management Plan (BLM 1999), as amended. This planning effort would replace the existing Monument Management Plan with four new RMPs.

Within the Draft EIS, the BLM is also considering alternatives related to livestock Grazing on 318,000 acres of land within the Glen Canyon National Recreation Area, 65,500 acres in the Kanab Field Office and 2,300 acres in the Arizona Strip Field Office. The EIS includes information regarding the environmental consequences of implementing various livestock grazing management actions on resources in these areas. At the completion of this planning process, the National Park Service, who is cooperating with the BLM on preparation of the NEPA analysis, may adopt the EIS and prepare a separate decision related to livestock grazing for lands under NPS authority.

The BLM reviewed public scoping comments to identify planning issues that directed the formulation of alternatives and framed the scope of analysis in the Draft RMPs/Draft EIS. Issues identified include management of recreation and access; paleontological and cultural resources; livestock grazing; mineral resources; and wildlife, water, vegetation, and soil resources. This planning effort also considers management of lands with wilderness characteristics and designation of Areas of Critical Environmental Concern (ACECs).

The Draft RMPs/Draft EIS evaluate four alternatives in detail. Alternative A is the No Action alternative, which is a continuation of existing decisions in the Monument Management Plan. Alternative B generally focuses on protection of resources (e.g., wildlife, vegetation, cultural, etc.) while providing for targeted resource use (e.g., rights-of-way, travel, mineral development). Alternative C generally represents a balance of resource protection and resource use. Alternative D generally focuses on maximizing resource use (e.g., rights-of-way, minerals development, livestock grazing) while still providing for resource protection as required by applicable regulations, laws, policies, plans, and guidance, including protection of Monument objects within the GSENM Units. The BLM has identified Alternative D as the preferred alternative for purposes of public comment and review. Identification of this alternative, however, does not represent final agency direction, and the Proposed RMPs/Final EIS may include management actions described in the other analyzed alternatives.

Pursuant to 43 CFR 1610.7-2(b), the BLM is required to publish a notice in the Federal Register listing each ACEC proposed and specifying the resource use limitations which would occur if the ACEC were formally designated. This notice announces a concurrent public comment period for potential ACECs. There are no ACECs under Alternative A. There are 14 potential ACECs under Alternative B (totaling 308,044 acres), 5 potential ACECs under Alternative C (totaling 130,997 acres), and no potential ACECs under Alternative D. Pertinent information regarding ACECs, including proposed designation acreage and resource use limitations are included below:

Potential ACEC | Alternative B (acres) | Alternative C (acres) | Relevant and important values | Resource use limitations
Alvey Wash | 30,460 | Not Designated | Historic and Cultural Values | • Prohibit exclusive commercial mineral material sites. • Prohibit community mineral material pits larger than five acres in size.
|  |  |  | • Surface facilities incident to underground mining would be required to avoid known and document archaeological sites. • Stipulations would be necessary to mitigate adverse effects of subsidence.
|  |  |  | • NSO for fluid mineral leasing. • No rock climbing allowed within 100 meters of archaeological structures.
|  |  |  | • No casual use collection of fossils or other paleontological materials. • Require inventories of all paleontological resources prior to surface disturbing activities to document significant invertebrate and paleobotanical fossil sites, not just vertebrates.
Bulldog Bench | 361 | Not Designated | Historic and Cultural Values | • No casual use collection of fossils or other paleontological materials. • Require inventories of all paleontological resources prior to surface disturbing activities to document significant invertebrate and paleobotanical fossil sites, not just vertebrates.
Butler Valley | 15,899 | Not Designated | Scenic and Natural Process or System | • Manage as VRM Class II. • No collection of BLM or State sensitive plants without a research permit.
|  |  |  | • Prohibit vegetation treatments that are likely to harm, or will not benefit, special status species plants in known suitable habitat.
Circle Cliffs | 26,706 | 26,706 | Historic and Cultural, Scenic, and Fish and Wildlife Resources | • Prohibit exclusive commercial mineral material sites. • Prohibit community mineral material pits larger than five acres in size.
|  |  |  | • NSO for fluid mineral leasing. • No Casual Collection of petrified Wood.
|  |  |  | • Avoid surface disturbance and placement of facilities near concentrations of petrified wood or in situ logs.
Cockscomb East | 42,182 | 32,683 | Fish and Wildlife Resources, Natural Process or Systems, Scenic, and Historic and Cultural Value | • No collection of BLM or State sensitive plants without a research permit. • Prohibit vegetation treatments that are likely to harm, or will not benefit, special status species plants in known suitable habitat. • Manage as VRM Class II. • No casual use collection of fossils or other paleontological materials. • Require inventories of all paleontological resources prior to surface disturbing activities to document significant invertebrate and paleobotanical fossil sites, not just vertebrates. • Do not designate new OHV routes. OHV use limited to designated routes.
Cockscomb West | 40,476 | 40,476 | Natural Process or Systems, Scenic, and Historic and Cultural Values | • Prohibit exclusive commercial mineral material sites. • Prohibit community mineral material pits larger than five acres in size. • NSO for fluid mineral leasing (Alternative B). • CSU for fluid mineral leasing (Alternative C).
|  |  |  | • Avoid vegetation treatments that disturb soils in previously untreated areas that are either Semidesert Shallow Loam (Pinyon-Juniper) or Semidesert Shallow Gypsum (Mormontea) Ecological Sites; Limit method to hand-thinning (lop and scatter). • No collection of BLM or State sensitive plants without a research permit.
|  |  |  | • Manage as VRM Class II.
Collet Top | 9,218 | Not Designated | Historic and Cultural Values, Scenic, and Natural Process or Systems | • Prohibit exclusive commercial mineral material sites. • Prohibit community mineral material pits larger than five acres in size. • NSO for fluid mineral leasing. • Surface facilities incident to underground mining would be required to avoid known and document archaeological sites.
|  |  |  | • Stipulations would be necessary to mitigate adverse effects of subsidence. • No rock climbing allowed within 100 meters of archaeological structures.
|  |  |  | • Manage as VRM Class II. • No collection of BLM or State sensitive plants without a research permit.
Henderson/Pardner | 12,259 | Not Designated | Scenic and Historic and Cultural Values | • Manage as VRM Class II. • No casual use collection of fossils or other paleontological materials.
|  |  |  | • Require inventories of all paleontological resources prior to surface disturbing activities to document significant invertebrate and paleobotanical fossil sites, not just vertebrates.
Hole in the Rock Trail | 61,064 | Not Designated | Historic and Cultural Values and Natural Process or System | • Manage all areas outside WSAs VRM Class II. • Prohibit exclusive commercial mineral material sites. • Prohibit community mineral material pits larger than 5 acres in size. • NSO for fluid mineral leasing.
|  |  |  | • No collection of BLM or State sensitive plants without a research permit.
Paria River | 180 | Not Designated | Scenic, Historic and Cultural Values, Fish Wildlife, Natural Process or System | • Manage all areas outside WSAs VRM Class II. • Closed or limited to designated routes.
Scorpion Flat/Dry Fork | 30,691 | Not Designated | Scenic | • Manage all areas outside WSAs VRM Class II.
Straight Cliffs/Fifty Mile Bench | 21,357 | 12,270 | Scenic and Historical and Cultural Values | • Prohibit exclusive commercial mineral material sites. • Prohibit community mineral material pits larger than five acres in size.
|  |  |  | • NSO for fluid mineral leasing (Alternative B). • CSU for fluid mineral leasing (Alternative C).
|  |  |  | • Surface facilities incident to underground mining would be required to avoid known and document archaeological sites. • Stipulations would be necessary to mitigate adverse effects of subsidence.
|  |  |  | • No rock climbing allowed within 100 meters of archaeological structures. • Manage as VRM Class II.
Tibbet Head | 19,079 | 19,079 | Historical and Cultural Values and Natural process or System | • No collection of BLM or State sensitive plants without a research permit. No casual use collection of fossils or other paleontological materials. • Require inventories of all paleontological resources prior to surface disturbing activities to document significant invertebrate and paleobotanical fossil sites, not just vertebrates.
Wahweap Hoodoos | 130 | Not Designated | Natural Systems or Process | • Recommend withdrawing from mineral entry. • No rock climbing or rappelling within 100 meters of any hoodoo formation.

The application of the Federal coal unsuitability criteria to portions of the Southern Kaiparowits in the lands excluded from the monument is included in the Draft RMP/Draft EIS. As required by 43 CFR 3461.2-1(a)(2), the public is invited to comment on the results of the application of the criteria and the process used to derive these results.

BLM Utah is soliciting comments on the entire Draft RMPs/Draft EIS. Please note that public comments and information submitted including names, street addresses, and email addresses of persons who submit comments will be available for public review and disclosure at addresses provided in the ADDRESSES section of this notice during regular business hours (8 a.m. to 4 p.m.), Monday through Friday, except holidays.

Before including your address, phone number, email address or other personal identifying information in your comment, you should be aware that your entire comment—including your personal identifying information—may be made publicly available at any time. While you may request to withhold your personal identifying information from public review, we cannot guarantee that we will be able to do so.

Authority: 40 CFR 1506.6, 40 CFR 1506.10 and 43 CFR 1610.2.

Edwin L. Roberson,
State Director.

[FR Doc. 2018-17751 Filed 8-16-18; 8:45 am]

BILLING CODE P